ENVIRONMENTAL PROTECTION AGENCY

40 CFR Part 52

[EPA-R05-OAR-2015-0845; FRL-9960-49-Region 5]

Air Plan Approval; Michigan; Part 9 Miscellaneous Rules; Correction

AGENCY: Environmental Protection Agency (EPA).

ACTION: Final rule; correcting amendment.

SUMMARY: The Environmental Protection Agency (EPA) published a final rule in the Federal Register on December 19, 2016, approving a state request to EPA to make minor administrative revisions to rules in the Michigan State Implementation Plan entitled “Emissions Limitations and Prohibitions—Miscellaneous.” An error in the amendatory instruction is identified and corrected in this action.

DATES: This final rule is effective on April 7, 2017.

FOR FURTHER INFORMATION CONTACT: Christos Panos, Environmental Engineer, Attainment Planning and Maintenance Section, Air Programs Branch (AR-18J), Environmental Protection Agency, Region 5, 77 West Jackson Boulevard, Chicago, Illinois 60604, (312) 353-8328, panos.christos@epa.gov.

SUPPLEMENTARY INFORMATION: EPA published a direct final rule document on December 19, 2016, (81 FR 91839) approving revisions to Michigan rules in Chapter 336, Part 9, submitted by the State on December 21, 2015. In this approval EPA identified in the amendatory instructions that we were revising the entries for R 336.1906, R 336.1911, and R 336.1912. However, in the CFR the entries are listed as R 339.1906, R 339.1911, and R 336.1912. Therefore, the amendatory instruction is being corrected to reflect the correct CFR reference.

Correction

In the direct final rule published in the Federal Register on December 19, 2016, (81 FR 91839), on page 91840, third column, in amendatory instruction 2, in the third line, and in the table at the top of page 91841, the entries for “R 336.1906” and “R 336.1911” are corrected to read: “R 339.1906” and “R 339.1911” respectively.

Dated: March 14, 2017.
Robert A. Kaplan,
Acting Regional Administrator, Region 5.

40 CFR part 52 is amended as follows:

PART 52—APPROVAL AND PROMULGATION OF IMPLEMENTATION PLANS

1. The authority citation for part 52 continues to read as follows:

Authority: 42 U.S.C. 7401 et seq.

2. In § 52.1170, the table in paragraph (c) is amended by revising the entries for R 339.1906, R 339.1911, and R 336.1912 under the heading “Part 9. Emission Limitations and Prohibitions—Miscellaneous” to read as follows:

§ 52.1170 Identification of plan.

* * * * *

(c) * * *

EPA-Approved Michigan Regulations
Michigan citation | Title | State effective date | EPA approval date | Comments
* * * * * * *
Part 9. Emission Limitations and Prohibitions—Miscellaneous
* * * * * * *
R 339.1906 | Diluting and concealing emissions | 5/20/15 | 12/19/2016, 81 FR 91839
* * * * * * *
R 339.1911 | Malfunction abatement plans | 5/20/15 | 12/19/2016, 81 FR 91839
R 336.1912 | Abnormal conditions, start-up, shutdown, and malfunction of a source, process, or process equipment, operating, notification, and reporting requirements | 5/20/15 | 12/19/2016, 81 FR 91839
* * * * * * *

[FR Doc. 2017-06896 Filed 4-6-17; 8:45 am]

BILLING CODE 6560-50-P